DEPARTMENT OF TRANSPORTATION

Maritime Administration

Voluntary Intermodal Sealift Agreement (VISA)/Joint Planning Advisory Group (JPAG)

AGENCY: Maritime Administration, DOT.

ACTION: Synopsis of March 9, 2006, Meeting with VISA Participants.

The VISA program requires that a notice of the time, place, and nature of each JPAG meeting be published in the Federal Register. The program also requires that a list of VISA participants be periodically published in the Federal Register. The full text of the VISA program, including these requirements, is published in 70 FR 55947-55955, dated September 23, 2005.

On March 9, 2006, the Maritime Administration (MARAD) and the U.S. Transportation Command (USTRANSCOM) co-hosted a meeting of the VISA JPAG at the Military Sealift Command in Washington, DC. Meeting attendance was by invitation only, due to the nature of the information discussed and the need for a government-issued security clearance. Of the 52 U.S.-flag carrier corporate participants enrolled in the VISA program only the 13 companies whose vessels were modeled in the Department of Defense's Mobility Capabilities Study (MCS) were invited to the JPAG meeting. A representative for maritime labor also participated in the meeting. In addition, representatives from MARAD and the Department of Defense attended the meeting.

James Caponiti, Associate Administrator for National Security for MARAD and Margaret Leclaire, Deputy Director, Strategy, Plans, Policy and Programs for USTRANSCOM welcomed the participants. Both Mr. Caponiti and Ms. Leclaire noted that they expected the meeting would provide sealift planners with a better appreciation of how industry could provide additional commercial sealift resources to meet Department of Defense (DOD) requirements.

The meeting was a follow-on meeting to the December 5, 2005, JPAG meeting which focused on the overall structure and findings of DOD's Mobility Capabilities Study (MCS). The purpose of the meeting was to address questions raised by DOD related to the MCS at the December meeting. The discussion of questions and responses was led by Mr. Caponiti. Industry representatives expressed that DOD needed to provide more clarification on possible scenarios where commercial sealift might be used to meet DOD requirements. It was noted that if industry had a clear indication of the types of cargo to be moved, timelines, and the various locations of cargo origin and destination, they could provide DOD information on how requirements could be satisfied in the most effective manner by commercial carriers. As a result of the discussion, industry and government officials agreed that a future JPAG table top exercise would be the best method to address industry capabilities to meet DOD requirements.

As of March 9, 2006, the following commercial U.S.-flag vessel operators were enrolled in the VISA program with MARAD: AAA Shipping No. 1 L.L.C.; A Way to Move, Inc.; America Cargo Transport, Inc.; American Automar, Inc.; American President Lines, Ltd.; American Roll-On Roll-Off Carrier, LLC; American Shipping Group; APL Marine Services, Ltd.; Beyel Brothers Inc.; Canal Barge Company, Inc.; Central Gulf Lines, Inc.; Cherokee Nation Distributors; Coastal Transportation, Inc.; Columbia Coastal Transport, LLC; CP Ships USA, LLC; CRC Marine Services, Inc.; Crowley Liner Services, Inc.; Crowley Marine Services, Inc.; Farrell Lines Incorporated; Fidelio Limited Partnership; Foss Maritime Company; Horizon Lines, LLC; Laborde Marine Lifts, Inc.; Laborde Marine, L.L.C.; Liberty Global Logistics, LLC; Liberty Shipping Group Limited Partnership; Lockwood Brothers, Inc.; Lynden Incorporated; Maersk Line, Limited; Marine Transport Management; Matson Navigation Company, Inc.; Maybank Navigation Company, LLC; McAllister Towing and Transportation Co., Inc.; Northland Services, Inc.; OSG Car Carriers, Inc.; Pasha Hawaii Transport Lines LLC; Patriot Shipping, L.L.C.; Patriot Titan LLC; Red River Holdings LLC; Resolve Towing & Salvage, Inc.; Samson Tug & Barge Company, Inc.; SeaTac Marine Services, LLC; Sealift Inc.; Signet Maritime Corporation; Smith Maritime; Stevens Towing Co., Inc.; Strong Vessel Operators LLC; Superior Marine Services, Inc.; Trailer Bridge, Inc.; TransAtlantic Lines LLC; Troika International, Ltd.; and Waterman Steamship Corporation.

Contact Person for Additional Information: Mr. Taylor E. Jones II, Director, Office of Sealift Support, (202) 366-2323.

By Order of the Maritime Administrator.
Dated: March 28, 2006.
Joel C. Richard,
Secretary.

[FR Doc. E6-4725 Filed 3-30-06; 8:45 am]

BILLING CODE 4910-81-P